DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 74 FR 37718-37723 dated July 29, 2009).

This notice reflects organizational changes in the Health Resources and Services Administration. This notice renames the Office of Performance Review (RE) to the Office of Regional Operations (ORO) (RE), and changes the mission and functions of the office.

Chapter RE—Office of Regional Operations (RE)

Section RE-00, Mission

Delete in its entirety and replace with the following:

The mission of ORO is to improve health care systems and America's health care safety net, increase access to quality care, reduce disparities, and advance public health by providing leadership in support of the HHS and HRSA missions, goals and strategic priorities in each region.

Section RE-10, Organization

Delete in its entirety and replace with the following:

The Office of Regional Operations (RE) is headed by the Associate Administrator who reports directly to the Administrator, Health Resources and Services Administration. The Office of Regional Operations includes the following components:

1. Office of the Associate Administrator (RE);

2. Boston Regional Division (RF12) serves Connecticut, Maine, Massachusetts, New Hampshire, Rhode Island and Vermont;

3. New York Regional Division (RF13) serves New Jersey, New York, Puerto Rico and the United States Virgin Islands;

4. Philadelphia Regional Division (RF11) serves Delaware, Maryland, Pennsylvania, Virginia, West Virginia and the District of Columbia;

5. Atlanta Regional Division (RF21) serves Alabama, Florida, Georgia, Kentucky, Mississippi, North Carolina, South Carolina and Tennessee;

6. Chicago Regional Division (RF31) serves Illinois, Indiana, Michigan, Minnesota, Ohio and Wisconsin;

7. Dallas Regional Division (RF41) serves Arkansas, Louisiana, New Mexico, Oklahoma and Texas;

8. Kansas City Regional Division (RF32) serves Iowa, Kansas, Missouri and Nebraska;

9. Denver Regional Division (RF42) serves Colorado, Montana, North Dakota, South Dakota, Utah and Wyoming;

10. San Francisco Regional Division (RF51) serves Arizona, California, Hawaii, Nevada, American Samoa, Commonwealth of the Northern Mariana Islands, Federated States of Micronesia, Guam, Republic of the Marshall Islands and the Republic of Palau; and

11. Seattle Regional Division (RF52) serves Alaska, Idaho, Oregon and Washington.

Section RE-20, Functions

Delete in its entirety and replace with the following:

ORO serves as the regional component of HRSA by: (1) Providing leadership on HRSA's mission, goals, priorities and initiatives in regions, States and territories; (2) providing ongoing surveillance and analysis of health care environmental trends and making recommendations to HRSA Senior Management and other government officials on ways to improve the effectiveness of policies and programs; (3) generating and sustaining collaborative efforts between State health care leaders, HRSA managers and HRSA program resources in each State to improve public health and health care systems; (4) fostering greater alignment and collaboration between HRSA's assets, private and other public assets in communities, in pursuit of commonly held goals and improved/integrated systems of care; (5) providing assistance to grant recipients in partnership with HRSA program leaders, including: (a) the conduct of performance reviews, (b) the conduct of site visits for grantees with problems meeting program requirements or demonstrating poor operational performance, (c) the conduct of other types of site visits in support of HRSA programs, and (d) the collection and dissemination of leading/innovative practices; (6) providing support for recruitment and retention of primary health care providers in Health Professions Shortage Areas; (7) conducting other activities designed to improve access to quality care, reduce disparities and improve public health in accordance with HRSA authorities and in partnership with related public and private sector organizations; and (8) exercising line management authority related to general administrative and management functions of ORO.

Section RB-30, Delegations of Authority

All delegations of authority and re-delegations of authority made to HRSA officials that were in effect immediately prior to this reorganization, and that are consistent with this reorganization, shall continue in effect pending further re-delegation.

This reorganization is effective upon the date of signature.

Dated: September 14, 2009.
Mary K. Wakefield,
Administrator.

[FR Doc. E9-22602 Filed 9-18-09; 8:45 am]

BILLING CODE 4165-15-P